ENVIRONMENTAL PROTECTION AGENCY

[EPA-HQ-OPP-2010-0014; FRL-9390-4]

Product Cancellation Order for Certain Pesticide Registrations

AGENCY: Environmental Protection Agency (EPA).

ACTION: Notice.

SUMMARY: This notice announces EPA's order for the cancellations, voluntarily requested by the registrants and accepted by the Agency, of the products listed in Table 1a and 1b of Unit II. pursuant to the Federal Insecticide, Fungicide, and Rodenticide Act (FIFRA). This cancellation order follows a November 28, 2012 Federal Register Notice of Receipt of Requests from the registrants listed in Table 2 of Unit II. to voluntarily cancel these product registrations. In the November 28, 2013 notice, EPA indicated that it would issue an order implementing the cancellations, unless the Agency received substantive comments within the 180-day comment period that would merit its further review of these requests, or unless the registrants withdrew their requests. The Agency received one comment on the notice but it did not merit its further review of the request. Further, the registrants did not withdraw their requests. Accordingly, EPA hereby issues in this notice a cancellation order granting the requested cancellations. This order includes the last resmethrin product registrations in the United States. Any distribution, sale, or use of the products subject to this cancellation order is permitted only in accordance with the terms of this order, including any existing stocks provisions.

DATES: The cancellations are effective June 26, 2013.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What Action is the Agency Taking?

This notice announces the cancellation, as requested by registrants, of 22 products, including the last resmethrin product registrations, registered under FIFRA section 3. These registrations are listed in sequence by registration number in Tables 1a and 1b of this unit.

This notice also corrects a typographical error in the Federal Register issue of November 28, 2012 (77 FR 70998) (FRL-9370-3) regarding two EPA registration numbers and is corrected as follows:

EPA registration numbers 062910-00032 and 062910-00035 are corrected to read 062190-00032 and 062190-00035, respectively. These corrected registration numbers are included below in Table 1a.

Table 1a—Product Cancellations
EPA registration No. | Product name | Chemical name
000264-00977 | Tops-MZ-Gaucho Potato Seed-Piece Treatment | Mancozeb Thiophanate-methyl Imidacloprid.
000264-00978 | Gaucho-MZ Potato Seed-Piece Treatment | Mancozeb Imidacloprid.
000264-00996 | Raxil MD-W Seed Treatment | Metalaxyl Tebuconazole Imidacloprid.
005383-00011 | Troysan 174 | 2-((Hydroxymethyl)amino) ethanol.
010466-00028 | Ultrafresh DM-50 | Tributyltin maleate.
040849-00072 | Enforcer P002-082797-RMP | S-Methoprene/Permethrin.
042177-00009 | Olympic Algaecide 20 | Poly(oxy-1,2-ethanediyl(dimethylimino)-1,2-ethanediyl(dimethylimino)-1,2-ethanediyl dichloride).
046043-00031 | Suncoast's Pool Algaecide 20 | Poly(oxy-1,2-ethanediyl (dimethylimino)-1,2-ethanediyl (dimethylimino)-1,2-ethanediyl dichloride).
062190-00032 | Arch CMIT/MIT | 5-Chloro-2-methyl-3(2H)-isothiazolone 2-Methyl-3(2H)-isothiazolone.
062190-00035 | Arch CMIT/MIT 14 MUP | 2-Methyl-3(2H)-isothiazolone 5-Chloro-2-methyl-3(2H)-isothiazolone.
074601-00001 | Chlorothalonil Technical Fungicide | Chlorothalonil.
075449-00003 | Sodium Bichromate Solution 69% | Dichromic acid, (H2Cr207), disodium salt, dihydrate.
AZ-030006 | Dual Magnum Herbicide | S-Metolachlor.
AZ-070007 | Gramoxone Inteon | Paraquat dichloride.
AZ-090001 | Ethrel Brand Ethephon Plant Regulator | Ethephon.
CO090004 | Actara Insecticide | Thiamethoxam.
CO120001 | Gramoxone SL 2.0 | Paraquat dichloride.
LA-110006 | Milestone VM | Triisopropanolamine salt of aminopyralid.
OR-070032 | DuPont Direx 4L Herbicide | Diuron.

Table 1b—Resmethrin Product Cancellations
Registration No. | Product name | Chemical name
000432-00667 | Scourge Insecticide W/SBP-1382/Piperonyl Butoxide 18%+54% MF Form II | Piperonyl butoxide/resmethrin.
000432-00716 | Scourge Insecticide W/SBP-1382/Piperonyl Butoxide 4%+12% MF FII | Piperonyl butoxide/resmethrin.
073049-00086 | SBP-1382 Technical with Antioxidant | Resmethrin.

Table 2 of this unit includes the names and addresses of record for all registrants of the products in Table 1a and 1b of this unit, in sequence by EPA company number. This number corresponds to the first part of the EPA registration numbers of the products listed in Table 1a and 1b of this unit.

Table 2—Registrants of Cancelled Products
EPA company No. | Company name and address
264 | Bayer Cropscience, LP, 2 T.W. Alexander Dr., P.O. Box 12014, Research Triangle Park, NC 27709.
432 | Bayer Environmental Science, 2 T.W. Alexander Dr., P.O. Box 12014, Research Triangle Park, NC 27709.
5383 | Troy Chemical Corp., 8 Vreeland Rd., P.O. Box 955, Florham Park, NJ 07932-4200.
10466 | Thomas Research Associates, Shenstone Estates, 17804 Braemar Pl., Leesburg, VA 20176-7046.
40849 | ZEP Commercial Sales & Services, 4196 Merchant Plaza, #344, Lake Ridge, VA 22192.
42177 | Alliance Trading, Inc., 1150 18th St. NW., Suite 1000, Washington, DC 20036.
46043 | Suncoast Chemicals Company, 14480 62nd St. N., Clearwater, FL 33760.
62190 | Arch Wood Protection, Inc., 5660 New Northside Dr., Suite 1100, Atlanta, GA 30328.
73049 | Valent Biosciences Corporation, 870 Technology Way, Libertyville, Ill 60048-6316.
74601 | Oxon Italia S.P.A., Agent: Lewis & Harrison, LLC, 122 C St. NW., Suite 740, Washington, DC 20001.
75449 | Elementis Chromium, LP, 5408 Holly Shelter Rd., Castle Hayne, NC 28429.
AZ030006, AZ070007, CO090004, CO120001 | Syngenta Crop Protection, LLC, 410 Swing Rd., P.O. Box 18300, Greensboro, NC 27419-8300.
LA110006 | DOW Agrosciences, LLC, 9330 Zionsville Rd., 308/2E, Indianapolis, IN 46268-1054.
OR070032 | E.I. Dupont de Nemours and Company, (S300/419), Manager, Registration & Regulatory Affairs, 1007 Market St., Wilmington, Delaware 19898-0001.
AZ090001 | Bayer Cropscience, LP, 2 T.W. Alexander Dr., P.O. Box 12014, Research Triangle Park, NC 27709.

III. Summary of Public Comments Received and Agency Response to Comments

The Agency received one comment, but the Agency does not believe that the comment submitted during the comment period merits further review or a denial of the request for voluntary cancellation.

IV. Cancellation Order

Pursuant to FIFRA section 6(f), EPA hereby approves the requested cancellations of the registrations identified in Table 1a and 1b of Unit II. Accordingly, the Agency hereby orders that the product registrations identified in Table 1a and 1b of Unit II. are canceled. The effective date of the cancellations that are the subject of this notice is June 26, 2013. Any distribution, sale, or use of existing stocks of the products identified in Table 1a and 1b of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of November 28, 2012 (77 FR 70998) (FRL-9370-3). The comment period closed on May 28, 2013.

VI. Provisions for Disposition of Existing Stocks

Existing stocks are those stocks of registered pesticide products which are currently in the United States and which were packaged, labeled, and released for shipment prior to the effective date of the cancellation action. The existing stocks provisions for the products subject to this order are as follows.

A. For All Products Listed in Table 1a in Unit II

The registrants may continue to sell and distribute existing stocks of products listed in Table 1a of Unit II. until June 26, 2014, which is 1-year after the publication of the Cancellation Order in the Federal Register. Thereafter, the registrants are prohibited from selling or distributing products listed in Table 1a, except for export in accordance with FIFRA section 17, or proper disposal. Persons other than the registrants may sell, distribute, or use existing stocks of products listed in Table 1a of Unit II. until existing stocks are exhausted, provided that such sale, distribution, or use is consistent with the terms of the previously approved labeling on, or that accompanied, the canceled products.

B. For All Products Listed in Table 1b in Unit II

After December 31, 2015, registrants will be prohibited from selling, or distributing, existing stocks of products, containing resmethrin labeled for all uses. After December 31, 2015, persons other than the registrants will be allowed to sell, distribute, or use existing stocks of products, containing resmethrin until supplies are exhausted, provided that such sale, distribution, or use is consistent with the terms of the previously approved labeling on, or that accompanied, the canceled products.

List of Subjects

Environmental protection, Pesticides and pests.

Dated: June 18, 2013.
Michael Goodis,
Acting Director, Pesticide Re-Evaluation Division, Office of Pesticide Programs.

[FR Doc. 2013-15320 Filed 6-25-13; 8:45 am]

BILLING CODE 6560-50-P